NUCLEAR REGULATORY COMMISSION

Draft Regulatory Guide; Issuance, Availability

The U.S. Nuclear Regulatory Commission (NRC) has issued for public comment a draft revision to an existing guide in the agency's Regulatory Guide Series. This series has been developed to describe and make available to the public such information as methods that are acceptable to the NRC staff for implementing specific parts of the NRC's regulations, techniques that the staff uses in evaluating specific problems or postulated accidents, and data that the staff needs in its review of applications for permits and licenses.

The draft Revision 1 of Regulatory Guide 3.71, entitled “Nuclear Criticality Safety Standards for Fuels and Material Facilities,” is temporarily identified by its task number, DG-3023, which should be mentioned in all related correspondence. Like its predecessor, the proposed revision describes methods that the NRC staff finds acceptable for complying with the NRC's regulations in Title 10, parts 70 and 76, of the Code of Federal Regulations (10 CFR parts 70 and 76).

In 10 CFR Part 70, “Domestic Licensing of Special Nuclear Material,” Section 70.20, “General License To Own Special Nuclear Material,” defines a specific license to acquire, deliver, receive, possess, use, transfer, import, or export special nuclear material. According to 10 CFR 70.22, “Contents of Applications,” each application for such a license must contain proposed procedures to avoid nuclear criticality accidents. In 10 CFR Part 76, “Certification of Gaseous Diffusion Plants,” Section 76.87, “Technical Safety Requirements,” states that the technical safety requirements should reference procedures and equipment that are applicable to criticality prevention.

The NRC initially issued Regulatory Guide 3.71 in 1998 to provide guidance concerning procedures that the staff considered acceptable for complying with these portions of the NRC's regulations. Toward that end, the original guide endorsed specific nuclear criticality safety standards developed by the American Nuclear Society's Standards Subcommittee 8 (ANS-8), “Operations with Fissionable Materials Outside Reactors.” Those national standards provide guidance, criteria, and best practices for use in preventing and mitigating criticality accidents during operations that involve handling, processing, storing, and/or transporting special nuclear material at fuel and material facilities. The original guide also took exceptions to certain portions of individual ANS-8 standards. In addition, the original guide consolidated and replaced a number of earlier NRC regulatory guides, thereby providing all of the relevant guidance in a single document.

Since that time, several ANS-8 nuclear criticality safety standards have been added, reaffirmed, revised, or withdrawn. Consequently, the NRC staff has decided to update this guide to clarify which standards the agency endorses and to clearly state exceptions to individual standards. This proposed revision does not change any of the guidance provided in Regulatory Guide 3.71; rather, it provides guidance concerning changes that have occurred since the NRC published the original guide in 1998.

The NRC staff is soliciting comments on Draft Regulatory Guide DG-3023. Comments may be accompanied by relevant information or supporting data. Please mention DG-3023 in the subject line of your comments. Comments on this draft regulatory guide submitted in writing or in electronic form will be made available to the public in their entirety on the NRC's Agencywide Documents Access and Management System (ADAMS). Personal information will not be removed from your comments. You may submit comments by any of the following methods.

Mail comments to: Rules and Directives Branch, Office of Administration, U.S. Nuclear Regulatory Commission, Washington, DC 20555-0001.

E-mail comments to: NRCREP@nrc.gov. You may also submit comments via the NRC's rulemaking Web site at http://ruleforum.llnl.gov. Address questions about our rulemaking Web site to Carol A. Gallagher (301) 415-5905; e-mail CAG@nrc.gov.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about Draft Regulatory Guide DG-3023 may be directed to H.D. Felsher, at (301) 415-5521 or via e-mail to HDF@nrc.gov.

Comments would be most helpful if received by June 20, 2005. Comments received after this date will be considered if it is practical to do so, but the NRC is able to ensure consideration only for comments received on or before this date. Although a time limit is given, comments and suggestions in connection with items for inclusion in guides currently being developed or improvements in all published guides are encouraged at any time.

Electronic copies of Draft Regulatory Guide DG-3023 are available through the NRC's public Web site under Draft Regulatory Guides in the Regulatory Guides document collection of the NRC's Electronic Reading Room at http://www.nrc.gov/reading-rm/doc-collections/. Electronic copies are also available in the NRC's Agencywide Documents Access and Management System (ADAMS) at http://www.nrc.gov/reading-rm/adams.html, under Accession #ML050390450. Note, however, that the NRC has temporarily limited public access to ADAMS so that the agency can complete security reviews of publicly available documents and remove potentially sensitive information. Please check the NRC's Web site for updates concerning the resumption of public access to ADAMS.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548; and by e-mail to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them. (5 U.S.C. 552(a)).

Dated at Rockville, Maryland, this 26th day of April, 2005.
For the Nuclear Regulatory Commission.
Mabel F. Lee,
Director, Program Management, Policy Development and Analysis Staff, Office of Nuclear Regulatory Research.

[FR Doc. E5-2349 Filed 5-11-05; 8:45 am]

BILLING CODE 7590-01-P